NATIONAL AERONAUTICS AND SPACE ADMINISTRATION

[Notice 00-037]

Notice of Prospective Copyright License

AGENCY: National Aeronautics and Space Administration.

ACTION: Notice of prospective patent license.

SUMMARY: NASA hereby gives notice that Knowledge Technologies, Inc., of Miami, FL, has applied for an exclusive copyright license in North, Central and South America, to ARC-15008, “Postdoc,” which is assigned to the United States of America as represented by the Administrator of the National Aeronautics and Space Administration. Written objections to the prospective grant of a license should be sent to Ames Research Center.

DATE: Responses to this notice must be received by June 26, 2000.

FOR FURTHER INFORMATION CONTACT: Robert Padilla, Patent Counsel, NASA Ames Research Center, M/S 202A-3, Moffett Field, CA 94035-1000, (650) 604-5104.

Dated: April 21, 2000.
Edward A. Frankle,
General Counsel.

[FR Doc. 00-10494 Filed 4-26-00; 8:45 am]

BILLING CODE 7510-01-U